DEPARTMENT OF EDUCATION

Privacy Act of 1974; System of Records—Study of Former Vocational Rehabilitation Consumers' Post-Program Experiences

AGENCY: Office of Special Education and Rehabilitative Services, Department of Education.

ACTION: Notice of a new system of records.

SUMMARY: In accordance with the Privacy Act of 1974, as amended (Privacy Act), 5 United States Code (U.S.C.) 552a, the Office of Special Education and Rehabilitative Services, U.S. Department of Education (Department) publishes this notice of a new system of records entitled “Study of Former Vocational Rehabilitation Consumers' Post-Program Experiences” (18-16-03).

The system of records will be maintained for program research and evaluation purposes. The system will contain information on a sample of former vocational rehabilitation (VR) consumers whose cases were closed in fiscal year (FY) 2006. The system will include demographic information, including financial information and responses to a survey about post-VR experiences, particularly related to employment outcomes and post-closure services.

DATES: The Department seeks comments on the new system of records described in this notice, in accordance with the requirements of the Privacy Act. We must receive your comments on or before April 12, 2007.

The Department filed a report describing the new system of records covered by this notice with the Chair of the Senate Committee on Homeland Security and Governmental Affairs, the Chair of the House Committee on Oversight and Government Reform, and the Acting Administrator of the Office of Information and Regulatory Affairs, Office of Management and Budget (OMB) on March 8, 2007. This system of records will become effective at the later date of—(1) the expiration of the 40-day period for OMB review on April 17, 2007 or (2) April 12, 2007, unless the system of records needs to be changed as a result of public comment or OMB review.

ADDRESSES: Address all comments about this new system of records to Joe Pepin, Rehabilitation Services Administration, Office of Special Education and Rehabilitative Services, U.S. Department of Education, 400 Maryland Avenue, SW., room 5052, Potomac Center Plaza, Washington, DC 20202-2800. If you prefer to send your comments through the Internet, use the following address: comments@ed.gov.

You must include the term “Post-Vocational Rehabilitation Experiences Study” in the subject line of the electronic message.

During and after the comment period, you may inspect all public comments about this notice in room 5155, Potomac Center Plaza, 550 12th Street, SW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Joe Pepin. Telephone: (202) 245-7598. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in 34 CFR part 5b.

The Privacy Act applies to a record about an individual that is maintained in a system of records from which information is retrieved by a unique identifier associated with each individual, such as a name or social security number. The information about each individual is called a “record,” and the system, whether manual or computer-based, is called a “system of records.” The Privacy Act requires each agency to publish a notice of a system of records in the Federal Register and to prepare a report for the Administrator of the Office of Information and Regulatory Affairs, OMB, whenever the agency publishes a new or altered system of records. Each agency is also required to send copies of the report to the Chair of the Senate Committee on Homeland Security and Governmental Affairs and the Chair of the House Committee on Oversight and Government Reform.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Registerand the CFR is available on GPO Access at: http://www.gpoaccess.gov/nara/index.html.

Dated: March 8, 2007.
John H. Hager,
Assistant Secretary for Special Education and Rehabilitative Services.

For the reasons discussed in the preamble, the Assistant Secretary for the Office of Special Education and Rehabilitative Services of the U.S. Department of Education (Department) publishes a notice of a new system of records to read as follows:

18-16-03

SYSTEM NAME:

Study of Former Vocational Rehabilitation Consumers' Post-Program Experiences (Post-Vocational Rehabilitation Experiences Study).

SECURITY CLASSIFICATION:

None.

SYSTEM LOCATIONS:

(1) Rehabilitation Services Administration, Office of Special Education and Rehabilitative Services, U.S. Department of Education, 400 Maryland Avenue, SW., Washington, DC, 20202-2800.

(2) Westat, 1650 Research Boulevard, Rockville, MD, 20850-3195.

(3) InfoUse, 2560 Ninth Street, Suite 320, Berkeley, CA, 94710-2566.

CATEGORIES OF INDIVIDUALS COVERED BY THE SYSTEM:

This system contains records on former vocational rehabilitation (VR) consumers whose VR service cases were closed in fiscal year (FY) 2006 (as determined from the RSA-911 Case Service Report). The sample of former VR consumers includes those who achieved an employment outcome as well as those who did not at the time of case closure. Four subgroups of interest considered in the sample selection include transitioning youth and young adults under 22 years of age, consumers with mental retardation, consumers with psychiatric disabilities, and Supplemental Security Income and Social Security Disability Insurance beneficiaries.

CATEGORIES OF RECORDS IN THE SYSTEM:

The system contains information on a sample of former VR consumers whose cases were closed in FY 2006. The system includes records from the RSA-911 Case Service Report containing employment data about the consumers, Social Security Administration data on receipt and amount of social security benefits, Unemployment Insurance wage records data, and information from baseline and follow-up surveys about post-VR experiences, particularly related to employment outcomes and post-closure services.

AUTHORITY FOR MAINTENANCE OF THE SYSTEM:

Section 14(a) of the Rehabilitation Act of 1973, as amended (29 U.S.C. 711(a)).

PURPOSE(S):

This system of records is maintained for program research and evaluation purposes. The Rehabilitation Services Administration commissioned this evaluation, which is also called the Post-Vocational Rehabilitation Experiences Study. The Department's contractor, Westat, is conducting the evaluation in collaboration with Westat's subcontractor, InfoUse.

The goal of this study is to examine the post-VR experiences of former VR consumers, considering their labor market progression, receipt of other services and resources from the community, non-economic outcomes, and receipt of Social Security Administration and other benefits. The study will further consider changes over time, the relationship between individual characteristics and outcomes, and how outcomes vary by specific subgroups of former consumers.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis or, if the Department has complied with the computer matching requirements of the Computer Matching and Privacy Protection Act of 1988, under a computer matching agreement.

(1) Freedom of Information Act (FOIA) Advice Disclosure. The Department may disclose records to the U.S. Department of Justice and the Office of Management and Budget if the Department concludes that disclosure is desirable or necessary in determining whether particular records are required to be disclosed under the FOIA.

(2) Contract Disclosure. If the Department contracts with an entity for the purposes of performing any function that requires disclosure of records in this system to employees of the contractor, the Department may disclose the records to those employees. Before entering into such a contract, the Department shall require the contractor to maintain Privacy Act of 1974, as amended (Privacy Act) safeguards as required under 5 U.S.C. 552a(m) with respect to the records in the system.

(3) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(4) Disclosure to Other Federal Agencies, Including the Social Security Administration and the Department of Veterans Affairs. The Department may disclose records to other Federal agencies, including the Social Security Administration and the Department of Veterans Affairs, for program research and evaluation purposes.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractor maintain data for this system on computers and in hard copy.

RETRIEVABILITY:

Records in this system are indexed by a number assigned to each individual that is cross-referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a “need to know” basis and controls individual users” ability to access and alter records within the system. The contractor, Westat, and its subcontractor, InfoUse, have established similar sets of procedures at their sites to ensure confidentiality of data. Their systems ensure that information identifying individuals is in files physically separated from other research data. They will maintain security of the complete set of all master data files and documentation. Access to individually identifiable data will be strictly controlled. At each site, all data will be kept in locked file cabinets during nonworking hours, and work on hardcopy data will take place in a single room, except for data entry. Physical security of electronic data will also be maintained. Security features that protect project data include password-protected accounts that authorize users to use the Westat or InfoUse system but to access only specific network directories and network software; user rights and directory and file attributes that limit those who can use particular directories and files and determine how they can use them; and additional security features that the network administrators establish for projects as needed.

RETENTION AND DISPOSAL:

Records are maintained and disposed of in accordance with the Department's Records Disposition Schedules, Part 3, Items 2b, 4a, and 5a.

SYSTEM MANAGER AND ADDRESS:

Joe Pepin, Unit Leader, Data Collection and Analysis Unit, Rehabilitation Services Administration, Office of Special Education and Rehabilitative Services, U.S. Department of Education, 400 Maryland Avenue, SW., room 5057, Potomac Center Plaza, Washington, DC 20202-2800.

NOTIFICATION PROCEDURE:

If you wish to determine whether a record exists regarding you in the system of records, contact the system manager. Your request for information must meet the requirements of the regulations in 34 CFR 5b.5, including proof of identity.

RECORD ACCESS PROCEDURES:

If you wish to gain access to your record in the system of records, contact the system manager. Your request must meet the requirements of the regulations in 34 CFR 5b.5, including proof of identity.

CONTESTING RECORD PROCEDURES:

If you wish to contest the content of a record regarding you in the system of records, contact the system manager. Your request must meet the requirements of the regulations in 34 CFR 5b.7, including proof of identity.

RECORD SOURCE CATEGORIES:

This system consists of information about former VR consumers and includes information taken directly from former consumers. It also includes data taken from the RSA-911 Case Service Report of former consumers, Social Security Administration records, Unemployment Insurance wage records data, and baseline and follow-up surveys about post-VR experiences, particularly related to employment outcomes and post-closure services.

EXEMPTIONS CLAIMED FOR THE SYSTEM:

None.

[FR Doc. E7-4561 Filed 3-12-07; 8:45 am]

BILLING CODE 4000-01-P